DEPARTMENT OF THE INTERIOR

Bureau of Land Management

[LLES956000-L14200000-BJ0000-LXSITRST0000]

Eastern States: Filing of Plat of Survey

AGENCY: Bureau of Land Management, Interior.

ACTION: Notice of filing of plats of survey; North Carolina and Wisconsin.

SUMMARY: The Bureau of Land Management (BLM) will file the plat of survey of the lands described below in the BLM-Eastern States office in Springfield, Virginia, 30 calendar days from the date of publication in the Federal Register.

FOR FURTHER INFORMATION CONTACT: Bureau of Land Management—Eastern States, 7450 Boston Boulevard, Springfield, Virginia 22153. Attn: Cadastral Survey.

SUPPLEMENTARY INFORMATION: These surveys were requested by the Bureau of Indian Affairs.

The lands surveyed are:

Swain County, North Carolina

The plat of survey represents the dependent resurvey of a portion of the Qualla Tract boundary in the location of Cooper Creek, Swain County, in the State of North Carolina, and was accepted June 23, 2009.

Fourth Principal Meridian, Wisconsin

T. 34 N., R 16 E.

The plat of survey represents the dependent resurvey of a portion of the west boundary and a portion of the subdivisional lines, and the survey of the subdivision of Section 18, of Township 34 North, Range 16 East, of the Fourth Principal Meridian, in the State of Wisconsin, and was accepted March 8, 2010.

We will place copies of the plats we described in the open files. They will be available to the public as a matter of information.

If BLM receives a protest against a survey, as shown on the plat, prior to the date of the official filing, we will stay the filing pending our consideration of the protest.

We will not officially file a plat until the day after we have accepted or dismissed all protests and they have become final, including decisions on appeals.

Dated: March 15, 2010.
Dominica Van Koten,
Chief Cadastral Surveyor.

[FR Doc. 2010-6028 Filed 3-18-10; 8:45 am]

BILLING CODE P